DEPARTMENT OF HEALTH AND HUMAN SERVICES

Office of Inspector General

Program Exclusions: September 2002

AGENCY: Office of Inspector General, HHS.

ACTION: Notice of program exclusions.

During the month of September 2002, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
ADEKOLA, ADEMOLA J | 10/20/2002
CHICAGO, IL
ALEMAN, ALBERTO | 10/20/2002
MIAMI, FL
AMABILE, JOHN C | 10/20/2002
WRIGHTSTOWN, NJ
ANTONOV, ROMAN | 10/20/2002
LONG BEACH, CA
ARUTYUNYAN, POGOS | 10/20/2002
MONTEBELLO, CA
ATIKYAN, VAGINAK | 10/20/2002
PASADENA, CA
AYNEHCHI, YAGHOUB | 10/20/2002
BEVERLY HILLS, CA
BADGER, MILDRED | 10/20/2002
JACKSONVILLE, FL
BAEZ, ELIAS | 10/20/2002
FT LAUDERDALE, FL
BAEZ, ONELIO | 10/20/2002
MIAMI, FL
BARRERA, PATTI KAY | 10/20/2002
HOUSTON, TX
BARRISH, BRYAN G | 06/10/2002
NORTHBROOK, IL
BELL, YNOLIA T | 10/20/2002
HOUSTON, TX
BERNSTEIN, SCOTT EVAN | 10/20/2002
MIAMI, FL
BESHARA, LOUIS | 10/20/2002
LOXAHATCHEE, FL
BRADLEY, TONIA M | 10/20/2002
FRANKLIN, VA
BRITO, EVA | 10/20/2002
MIAMI, FL
BROOKS, WILLIAM EDWARD | 10/20/2002
EL RENO, OK
BROWN, KENT BERKELEY | 10/20/2002
FORT SMITH, AR
BRUGGISSER, ARTHUR T | 10/20/2002
PLANTATION, FL
BURTON, EMMA | 10/20/2002
MAUNELLE, AR
BUTLER, LAURA A | 10/20/2002
SEARSPORT, ME
CARPIO, LESLIE | 10/20/2002
MIAMI, FL
CARRERA, MIRNA AMARILIS | 10/20/2002
EL MONTE, CA
CHHET, SAMNANG | 10/20/2002
TAFT, CA
CHHET, SAMNANG | 10/20/2002
TAFT, CA
CHUN, BYUNG W | 10/20/2002
MILLBROOK, AL
CLOPTON, TOMMY RAY | 10/20/2002
SEAGOVILLE, TX
COHEN, RONALD I | 10/20/2002
ROCKVILLE CENTRE, NY
CUMMINGS, KEVIN JOHN | 10/20/2002
GARDNER, MA
DANIEL, ALAN L | 10/20/2002
ANCORA, NJ
DANIELS, SAMUEL RAY | 10/20/2002
MISSOURI CITY, TX
DAVIS, LYDIA CALDWELL | 10/20/2001
LOS ANGELES, CA
DIAZ, GUSTAVO | 10/20/2002
EL PASO, TX
DOOLIN, ROBYN | 10/20/2002
PARAGONAH, UT
EADEN, CHARGOIS JUAN | 10/20/2002
HOUSTON, TX
EKPO, GENEVIEVE | 10/20/2002
HOUSTON, TX
ELLIS, FELIX | 10/20/2002
NEW YORK, NY
ELTAYEB, AZIZ IBRAHIM | 10/20/2002
WINTON, NC
ESCARIZ, MARIA DEL CARMEN | 10/20/2002
MIAMI BEACH, FL
EXCEL CENTER, INC | 10/20/2002
CINNAMINSON, NJ
FELICIANO-ARIETA, RAUL | 10/20/2002
RIO PIEDRAS, PR
FORTE, ROBERT A | 10/20/2002
BILLERICA, MA
FRAGA, ANNETTE | 10/20/2002
MIAMI, FL
GARCIA, TERESA D | 10/20/2002
HIALEAH, FL
GERMAN, MARIA | 10/20/2002
MIAMI, FL
GIANNINI, MICHAEL RAYMOND | 06/10/2002
PALATINE, IL
GIRARD, RENEE E | 10/20/2002
WAKEFIELD, RI
GOINS, SHEILA | 10/20/2002
CONVOY, OH
GOLDSTEIN, BARRY JAY | 10/20/2002
MIAMI, FL
GOMEZ, JOSE MIGUEL | 10/20/2002
MIAMI, FL
GOYINGS, CAROL L | 10/20/2002
PAULDING, OH
GRIFFIN, DAVID L | 10/20/2002
LONG BEACH, CA
GRIGORYAN, ARAM | 10/20/2002
GLENDALE, CA
HALL, SANDRA RENITA | 10/20/2002
SAN BERNARDINO, CA
HALL, JOHN WESLEY SR | 10/20/2002
N LITTLE ROCK, AR
HALL, SUSANA | 10/20/2002
PHILADELPHIA, PA
HARRINGTON, RICHARD | 10/20/2002
LEVITTOWN, NY
HEDGEMON, CHARLENA RASHAY | 10/20/2002
TALULLAH, LA
HEDGEMON WATKINS, SARAH ANN | 10/20/2002
SEATTLE, WA
HERBERGER, PHYLLIS JEAN | 10/20/2002
TEXARKANA, TX
HERD, ERIN | 10/20/2002
UTICA, OH
HERRING, JOHN M | 10/20/2002
BATON ROUGE, LA
HICKMAN, JOYCE LEE | 10/20/2002
HOUSTON, TX
HODGES, EDWARD | 10/20/2002
APPLE VALLEY, CA
HOFSTETTER, DAVID | 10/20/2002
SARASOTA, FL
HOUSE, WANDA G | 10/20/2002
CORAL SPRINGS, FL
HUSSAIN, IFTIKHAR | 10/20/2002
NEW BRUNSWICK, NY
JANES, SANDRA S | 10/20/2002
TOWNSEND, MT
JONES, VENITA | 10/20/2002
FT LAUDERDALE, FL
JONES, KIMBERLY RENEE | 10/20/2002
CORPUS CHRISTI, TX
KARAPETIAN, ALEXANDER | 10/20/2002
REGO PARK, NY
KATZ, IRA | 10/20/2002
MARIETTA, GA
KEAGY, THERA M | 10/20/2002
CAVE JUNCTION, OR
KEIGLEY, HOLLY VICTORIA | 10/20/2002
AMES, IA
KIRSCH, GARY A | 10/20/2002
AKRON, OH
LAWRENCE, THOMAS RICHARD | 10/20/2002
LITTLETON, CO
LEBRON-HUERTA, VILMA DEL CARME | 10/20/2002
SAN JUAN, PR
LEE, ROBERT C | 10/20/2002
FAIRTON, NJ
LOPEZ, JAIME ANTONIO MART | 10/20/2002
BELL, CA
LOVE, MARY H | 10/20/2002
GRIFFIN, GA
LUNDY, CARMETTA | 10/20/2002
DETRIOT, MI
LUTZ, STEVEN A | 10/20/2002
LAKE WORTH, FL
LUTZKER, STEVEN W | 10/20/2002
LOMPOC, CA
MAIER, DAVID P | 10/20/2002
GLEN CARBON, IL
MALIK, MOHAMMAD SALEEM | 10/20/2002
MANHASSETT HILL, NY
MANSELL, GRETCHEN | 10/20/2002
HYDE PARK, NY
MCCOY, THEODORE J JR | 10/20/2002
SUGARCREEK, OH
MELANIDIS, KONSTANTINOS | 10/20/2002
MADISON, CT
MIGNOLA, ANNE | 10/20/2002
NEW ROCHELLE, NY
MILLER, ROBERT B | 10/20/2002
PETERSBURG, VA
MILLIEN, JEAN MOISE | 10/20/2002
BROOKLYN, NY
MIRANDA, MICHAEL V | 10/20/2002
ATLANTIC BEACH, NY
MUBANG, THERESA S | 10/20/2002
ALDERSON, WV
MURRY, TOMMIE JR | 10/20/2002
CINNAMINSON, NJ
NAVARRO, LOURDES | 10/20/2002
GLENDALE, CA
NAVARRO, LOURDES | 10/20/2002
GLENDALE, CA
NAVARRO, LOURDES | 10/20/2002
GLENDALE, CA
NAVARRO, LOURDES | 10/20/2002
GLENDALE, CA
NEWBERRY, RONDA | 10/20/2002
DAYTON, OH
NOEL-UYLOAN, CATHERINE | 10/20/2002
LONG BEACH, CA
OESTMANN, ROSS ERIC | 10/20/2002
RAPID CITY, SD
OLIVER, MELANIE J | 10/20/2002
SPRINGFIELD, TN
PEASLEE, GERALDINE ELIZABETH | 10/20/2002
HIGHLAND, CA
PENN, MARYANN ELIZABETH | 10/20/2002
PHOENIX, AZ
PERRY, KEITH O'NEIL | 10/20/2002
LOS ANGELES, CA
PIERNO, THOMAS | 10/20/2002
BAYVILLE, NY
POARCH, GROVER FRANKLIN | 10/20/2002
ROWLETT, TX
PONS, ROSA | 10/20/2002
MIAMI, FL
QUIJADA, NANCY MICHELLE | 10/20/2002
PUEBLO, CO
RAJA, ABDUL HAFEEZ | 10/20/2002
HOLBROOK, NY
REVELS, ROBERT STEVEN | 10/20/2002
ROCK HILL, SC
ROSICH-BACHS, ROBERTO | 10/20/2002
MIAMI, FL
RYBAK, JOHN P | 10/20/2002
HUNTINGTON, WV
SAING, CHHAYLEE | 10/20/2002
LOMPOC, CA
SALZ, JOSEPH ALAN | 10/20/2002
REDONDO BEACH, CA
SCHREIDELL, JILL LYNN | 10/20/2002
TALLAHASSEE, FL
SEWELL, MARTHA HERRING | 10/20/2002
BATON ROUGE, LA
SHELBY, CRAIG T | 10/20/2002
LITHONIA, GA
SINGH, RAMPERSAUD HARDAT | 10/20/2002
LONG BEACH, NY
SOSA, MERCEDES M | 10/20/2002
MIAMI, FL
STUYVESANT HGTS MEDICAL GROUP | 10/20/2002
BROOKLYN, NY
SWEAT, JAMES DANIEL JR | 10/20/2002
JACKSONVILLE, FL
TKACHENKO, YELENA | 10/20/2002
N WOODMERE, NY
TOFANI, NANCY | 10/20/2002
LEBANON, NJ
VALENTINE, EUGENE | 10/20/2002
ARNOLD, MD
VELASCO, DELORES | 10/20/2002
MIAMI, FL
VEREGGE, CONSTANCE JANE | 10/20/2002
KINGSTON, WA
WAITES, REGINA | 10/20/2002
MOUNT SAVAGE, MD
WEITZMAN, WARREN | 10/20/2002
BETHESDA, MD
WHITE, DANIEL DEAN | 10/20/2002
KENTWOOD, MI
WILLIAMS, NICHOLE M | 10/20/2002
CRESSON, PA
YADEGARI, NOSRATOLAH | 10/20/2002
ROSLYN, NY
FELONY—CONVICTION FOR HEALTH CARE FRAUD
BATES, ALLEN | 10/20/2002
MONTGOMERY, AL
BUCHHOLZ, CONNIE M | 10/20/2002
PEKIN, IL
CALHOUN, JIM | 10/20/2002
OXFORD, WI
CAMPA, JOHN A III | 10/20/2002
SAN ANTONIO, TX
COOPERSMITH, GLENNA MERYL | 10/20/2002
OAKLAND PARK, FL
FINCH, DONJA LOSHONE | 10/20/2002
AUSTIN, TX
GARSON, ALAN | 10/20/2002
MIAMI, FL
GOLDBERG, RICHARD J | 10/20/2002
EL PASO, TX
LUZE, KATHERINE E | 10/20/2002
LEAD, SD
MCCANNA, JANET | 10/20/2002
BRONX, NY
MOORE, LILLIE RUTH | 10/20/2002
ORANGE, NJ
PIROVOLOS, NICHOLAS G | 10/20/2002
OCEAN, NJ
POWELL, RICHARD BENNETT JR | 10/20/2002
EGLIN AFB, FL
RATNER, NEIL W | 10/20/2002
FORT DIX, NJ
ROBINSON, JEREMY | 10/20/2002
PENSACOLA, FL
SEIGEL, ARTHUR M | 10/20/2002
OTISVILLE, NY
STAVITSKI, MICHAEL D | 10/20/2002
AVON BY THE SEA, NJ
WHITE, COREY E C | 10/20/2002
ORLANDO, FL
WHITED, RUTH M | 10/20/2002
LUZERNE, PA
FELONY—CONTROL SUBSTANCE CONVICTION
ANDREJIC, ANTHONY | 10/20/2002
GRAFTON, OH
BALDERAS, CHARLOTTE STAMPER | 10/20/2002
WINCHESTER, KY
BRODWIN, GORDON | 10/20/2002
COLEMAN, FL
BYRNE, MARIE ANN | 10/20/2002
EL CAJON, CA
CAPONERA, PAUL S | 10/20/2002
E HAVEN, CT
CLARK, FREEMAN LOWELL | 10/20/2002
PENSACOLA, FL
DAVIDIAN, MARGIE ANN | 10/20/2002
CUTLER, CA
FORWARD, LISA CAROL | 10/20/2002
PEORIA, AZ
HEDGECORTH, JULIA ANNE | 10/20/2002
CHICAGO, IL
HORDGE, DANIEL EUGENE | 10/20/2002
HOUSTON, TX
HUGHES, JANET LYNN | 10/20/2002
GATESVILLE, TX
KREMPEL, MARCO | 10/20/2002
TORONTO, CANADA,
LITTLE, PAUL MICHAEL JR | 10/20/2002
ORO VALLEY, AZ
LOPEZ, JOHN LEE | 10/20/2002
GREELEY, CO
MILLER, NANCY L | 10/20/2002
AKRON, OH
NICHOLS, STUART ALAN | 10/20/2002
CASTRO VALLEY, CA
PAIVA, MICHELLE | 10/20/2002
ANTIOCH, CA
ROJAS, HUMBERTO | 10/20/2002
OWOSSO, MI
SESAY, CHERYL | 10/20/2002
SOMERDALE, NJ
SMITH, LINDA JO | 10/20/2002
VANDALIA, MO
SMUTEK, MICHELLE M | 10/20/2002
HAZLET, NJ
SOSA, ISMAEL | 10/20/2002
FORT DIX, NJ
SUTHERLAND, FRANKLIN J | 10/20/2002
ASHLAND, KY
WINOKUR, LEWIS | 10/20/2002
SOMERSET, PA
PATIENT ABUSE/NEGLECT CONVICTIONS
ALLEN, LINDA | 10/20/2002
PINE BLUFF, AR
ASANTE, TONY | 10/20/2002
DENVER, CO
BANKS, PEARL M | 10/20/2002
ROCHESTER, NY
BROWN, AUDRIE | 10/20/2002
BRONSON, FL
CHOW, ALBERT C | 10/20/2002
SOMERVILLE, MA
CHUNG, PAULINE MONICA | 10/20/2002
YUCCA VALLEY, CA
COLE, SCOTT L | 10/20/2002
PINACLE, NC
CULP, LOUIS MAX | 10/20/2002
ELLSWORTH, KS
CUNNINGHAM, TINA MARIE | 10/20/2002
HOWARD, SD
EDINGS, CHARIETT KAY | 10/20/2002
PRAGUE, OK
EDWARDS, INEZ AGRASSIE | 10/20/2002
TACOMA, WA
FELLOWS, DASHAWN MICHELLE | 10/20/2002
PRESCOTT, AR
HARTWELL, HORACE | 10/20/2002
MERIDIAN, MS
HIBLER, DONNIE L JR | 10/20/2002
BOWLING GREEN, MO
HUNTER, SANDRA KAY | 10/20/2002
HENRYETTA, OK
HUNTSBERRY, GERALDINE ANN BOB | 10/20/2002
LAFAYETTE, LA
JAMES, TANGELYN | 10/20/2002
FT WALTON BEACH, FL
JOHNSON, JAMES | 10/20/2002
GUTHRIE, OK
LUDER, JOAN | 10/20/2002
N COLLINS, NY
MARCUS, ALAN L | 10/20/2002
WOODBRIDGE, NJ
MARTINEZ, AGUSTIN | 10/20/2002
BRONX, NY
MASON, ARTHUR RALPH III | 10/20/2002
SOLIDAD, CA
MILLS, THOMASENA | 10/20/2002
ROCK HILL, SC
MITCHELL, RENEE | 10/20/2002
CROTON-ON-HUDSON, NY
NATO, JOHN A | 10/20/2002
CASTLETON, NY
PEREZ, ROMAN | 10/20/2002
DENVER, CO
PHILLIPS, REGINALD CARL | 10/20/2002
CENTURY, FL
POWERS, WILL | 10/20/2002
SANTA MARIA, CA
SANCHO, CHIMESE A | 10/20/2002
BROOKLYN, NY
SWANGO, MICHAEL | 10/20/2002
FLORENCE, CO
WOODS, VIOLA | 10/20/2002
ALBION, NY
CONVICTION FOR HEALTH CARE FRAUD
GREEN, DAVID LOREN II | 10/20/2002
POSTVILLE, IA
JACKSON, PAULETTE WHITE | 10/20/2002
BATON ROUGE, LA
SOLES, BETTY MAY | 10/20/2002
LONE TREE, IA
CONVICTION—OBSTRUCTION OF AN INVESTIGATION
CORUM, B H | 10/20/2002
SAN ANTONIO, TX
THOMASON, PATSY JANE | 10/20/2002
BEAUMONT, TX
CONTROLLED SUBSTANCE CONVICTIONS
DUFOE, DONALD L
BARRE, VT
LICENSE REVOCATION/SUSPENSION/SURRENDERED
ADAMS, CHERE A HOLMAN | 10/20/2002
DEMOPOLIS, AL
AHTES, RENEE S | 10/20/2002
ROCK HILL, SC
ALLEN, RHONDA DIANE | 10/20/2002
CLARKSVILLE, IN
ANDERSON, DAVID E | 10/20/2002
E HOLDEN, ME
ANDERSON, SHERRI LYNN | 10/20/2002
ATCHISON, KS
ANDRADE, BARBARA J | 10/20/2002
NEW BEDFORD, MA
BECERRA, FRANK GALVEZ | 10/20/2002
ORO VALLEY, AZ
BENAVIDEZ, LINDA | 10/20/2002
RATON, NM
BENNETT, JACLYN | 10/20/2002
DENVER, CO
BETHEA, ALFREDA | 10/20/2002
TRENTON, NJ
BJORK, JACKIE APPERSON | 10/20/2002
OMAHA, NE
BLAKE, CYNTHIA M | 10/20/2002
TUCSON, AZ
BOSLEY, MATTHEW MERRILL | 10/20/2002
LINCOLN, NE
BOUFFARD, ANNE B | 10/20/2002
OXFORD, ME
BRATTON, DONNA LUCIA | 10/20/2002
KANSAS CITY, KS
BROWN, SAMUEL SCOTT | 10/20/2002
NEWVILLE, AL
BYERS, LISA BROOKS | 10/20/2002
DE WITT, AR
CAHILL, ROXANE M | 10/20/2002
MOORHEAD, MN
CALDER, ELIZABETH B | 10/20/2002
PORTLAND, ME
CALKINS, BONNIE F | 10/20/2002
PITTSFIELD, MA
CAMERON, JANICE GAYLE | 10/20/2002
TWIN FALLS, ID
CARLSON, MORRIS E | 10/20/2002
KANSAS CITY, MO
CASH, JOHN LYNN | 10/20/2002
STOCKTON, CA
CASPOLI, NICHOLAS III | 10/20/2002
WEST WARWICK, RI
CASSELL, RAYMOND A | 10/20/2002
WELLINGTON, KS
CASSES, FERNANDO | 10/20/2002
QUESNEL, BC V2J2K7, AZ
CASSIDY, VICTOR A | 10/20/2002
BELFAST, NY
CATLETT, THERESA A | 10/20/2002
UPPER DARBY, PA
CHELATION CTR OF NAPLES-BONITA | 10/20/2002
NAPLES, FL
CHRISTOPHERSON, JULIE ANN | 10/20/2002
MEMPHIS, TN
CLIFFORD, RALPH A JR | 10/20/2002
TELFORD, TN
COMFORT, CHRISTOPHER A | 10/20/2002
PITTSFIELD, ME
COPPA, GEORGE | 10/20/2002
STATEN ISLAND, NY
CORNELL, LINDA ELEANOR | 10/20/2002
OMAHA, NE
COUNTRYMAN, CAROL J (ROBINETT) | 10/20/2002
MESA, CO
COURTLEY, CHRISTINE H | 10/20/2002
WESTFIELD, MA
COUSE, LORRI J | 10/20/2002
CATSKILL, NY
COYNER MADDEN, WANDA GAIL | 10/20/2002
OKLAHOMA CITY, OK
CRAIG, JOSEPH A | 10/20/2002
BROOKLYN, NY
CROUTHAMEL, SUSAN L | 10/20/2002
LEESBURG, VA
CRUZ, ANTHONY H | 10/20/2002
BRIDGEPORT, CT
DAHLKE, SHARON | 10/20/2002
MERIDIAN, MS
DALRYMPLE, SHARON M | 10/20/2002
ANDOVER, MA
DAVIS, KARIN B | 10/20/2002
WILDWOOD, NJ
DAVIS, LISA R | 10/20/2002
CHARLESTON, SC
DICKENS, CHARLES E | 10/20/2002
GRAND BAY, AL
DOUGLAS, CHRISTOPHER | 10/20/2002
JACKSON, MS
DUYCK, WAKENDA LEE | 10/20/2002
SCOTTSBLUFF, NE
EDDLEMAN SIRMONS, SHIRLEY | 10/20/2002
MCALLEN, TX
EFFLER, ELIZABETH | 10/20/2002
PICAYUNE, MS
ELLER, THOMAS EDWARD | 10/20/2002
BLOOMINGTON, IN
ESTRADA, ROBERT ANTHONY | 10/20/2002
SANTA ANA, CA
EVERETT, SPAULDING FRED | 10/20/2002
FARGO, ND
FAHRNEY, MARQUITA RENEE | 10/20/2002
HILLSBORO, KS
FARRELL, WALTER MICHAEL | 10/20/2002
UKIAH, CA
FEAZELL, KATRESCA ANNETTE | 10/20/2002
ALEXANDRIA, AL
FELDER, JAMES P | 10/20/2002
ST CHARLES, MO
FINK, WILLIAM | 10/20/2002
OPELOUSAS, LA
FONTENOT, MICHELLE | 10/20/2002
LAKE JACKSON, TX
FOWLER, ROBERT LEON | 10/20/2002
BOUNTIFUL, UT
FULLER, CATHY | 10/20/2002
DENISON, TX
FULTZ, JEAN M | 10/20/2002
THERESA, NY
FUSCHETTI, BARBARA L | 10/20/2002
NASHUA, NH
GADDIS, THOMAS D | 10/20/2002
E MACHIAS, ME
GANDLEY, DREW S | 10/20/2002
MONTAUK, NY
GERMANI, EILEEN L | 10/20/2002
DOYLESTOWN, PA
GIBBONS, LISA ANN | 10/20/2002
MYRTLE BEACH, SC
GILL, SHENNA | 10/20/2002
PICAYUNE, MS
GOOCH, JOSETTE | 10/20/2002
KAPLAN, LA
GRANT, MELODY A | 10/20/2002
BRISTOL, CT
GRASSER, JENNIFER B | 10/20/2002
WALL, NJ
GRIFFIN, KAREN LYNN COVETTS | 10/20/2002
HAWESVILLE, KY
GUFFY, DEBORAH C | 10/20/2002
DES MOINES, IA
HARDBECK, CHRISTOPHER D | 10/20/2002
SUWANEE, GA
HAROLD, MICHAEL DUANE | 10/20/2002
VICTORVILLE, CA
HART, RICHARD E | 10/20/2002
HAMILTON, OH
HASSAN, MOHAMED A | 10/20/2002
NASHVILLE, TN
HICKS, GINA RENEE | 10/20/2002
WHITLEY CITY, KY
HIGGINS, GARY W | 10/20/2002
NEPTUNE, NJ
HOLLY, SUSANNE M | 10/20/2002
PAWCATUCK, CT
INGRAO, FRANK | 10/20/2002
POUGHKEEPSIE, NY
JARRETT, CINDY LOU | 10/20/2002
WAGONER, OK
JOHNSTON, TONI DIANE | 10/20/2002
HOUSTON, TX
JUDGE, TONYA LEE WILCOXSON | 10/20/2002
EWING, KY
JUSTICE, CRYSTAL | 10/20/2002
LONGVIEW, TX
KAMARA, HELEN H | 10/20/2002
PALMYRA, NJ
KELSO, JESSIE | 10/20/2002
PHOENIX, AZ
KESTER, MARCIA | 10/20/2002
DEPEW, NY
KOZIUPA, HELENE ANN | 10/20/2002
TRENTON, NJ
KURIAN, LISSYAMMA | 10/20/2002
UNION, NJ
KWAK, CHOON JA | 10/20/2002
SOUTH GATE, CA
LANDRY, MELISSA | 10/20/2002
YOUNGSVILLE, LA
LANG, DEBRA A | 10/20/2002
TEANECK, NJ
LANGE, JUDITH GRAVES | 10/20/2002
KINGMAN, AZ
LARASON, LINDA LEE | 10/20/2002
INDIANAPOLIS, IN
LATHAM, SHEILA JANE | 10/20/2002
DECATUR, AL
LEE, BRIAN L | 10/20/2002
CAMDEN, NJ
LEE, JUDITH A | 10/20/2002
LEXINGTON, MA
LEONARD, JACQUELINE DENISE | 10/20/2002
LAGRANGE, GA
LEWIS, AMANDA GALE | 10/20/2002
NAVASOTA, TX
LIN, TSU-CHUN | 10/20/2002
MILLERSVILLE, MD
LUCERO, RICHARD THORVALD | 10/20/2002
SAN JOSE, CA
MAHONEY, LISA A | 10/20/2002
FRANKLIN, MA
MARFORI, CARLO ROBERTO | 10/20/2002
SAN DIEGO, CA
MARSH, RAYMOND GLENN | 10/20/2002
WICHITA, KS
MARTIN, SCOTT ALAN | 10/20/2002
CITRUS HGTS, CA
MARTIN, TIFFANY LYNNE | 10/20/2002
GRACEVILLE, FL
MCALLISTER, KRISTINE JOYCE ALL | 10/20/2002
SAN DIEGO, CA
MELDROM, CAROLE J | 10/20/2002
CROWNSVILLE, MD
MIER, MISTY | 10/20/2002
CROWLEY, LA
MIS, KIM ANDRE | 10/20/2002
REED CITY, MI
MOFFIE, CALVIN A | 10/20/2002
WALLINGFORD, CT
MOORE, BONNIE | 10/20/2002
WHEELER, MS
MUNDO, GLADYS | 10/20/2002
BRONX, NY
NARDUCCI, BARBARA LEE | 10/20/2002
TWAIN HARTE, CA
NELSON, TERESA ELAINE | 10/20/2002
GREENVILLE, AL
NEWTON, CHERYL L | 10/20/2002
WATERBURY, VT
NICHOLS, BERNADETTE CARROLL | 10/20/2002
TUCSON, AZ
NUSSRALLAH, STEPHANIE ANN | 10/20/2002
HOCKESSIN, DE
O'BRIEN, DENNIS FRANCIS | 10/20/2002
BETHANY, MO
O'CALLAGHAN, TERESE M | 10/20/2002
PENSAUKEN, NJ
O'TOOLE, JULIE A | 10/20/2002
RANDOLPH, MA
OLIVERA, SMIRNA | 10/20/2002
NEW BRUNSWICK, NJ
OLIVERI, JOYCE MARIE | 10/20/2002
ROCKFORD, IL
OMARRAH, JO ANNE | 10/20/2002
OAK LAWN, IL
OSLAY, RUSSELL C | 10/20/2002
DEKALB, IL
PAGE, CATHERINE M | 10/20/2002
BIG STONE GAP, VA
PARCO, MARY LYNN | 10/20/2002
ORLANDO, FL
PARKS, SHEILA CALLAHAN | 10/20/2002
ABINGDON, VA
PEARSON, JACKIE MERLE | 10/20/2002
OLATHE, KS
PERALTA, LEE ANN | 10/20/2002
LIVERMORE, CA
PERILLO, DAVID J | 10/20/2002
GOWANDA, NY
PETTERSEN, LINDA A | 10/20/2002
CHERRY HILL, NJ
PHILLIPS, DENISE R | 10/20/2002
FESTUS, MO
POPE, LINDA S | 10/20/2002
CARTHAGE, MS
PRUITT, LOIS A | 10/20/2002
PAWNEE, IL
PURCELL, ANNE P | 10/20/2002
LYMAN, ME
RAYBURN, ALMA | 10/20/2002
BATON ROUGE, LA
RAYMOND, NATALIE | 10/20/2002
WEST MONROE, LA
REDNER, NANCY CLAUSEN | 10/20/2002
BENSALEM, PA
REED, KATHY | 10/20/2002
PHOENIX, AZ
REYNOLDS, PAUL DAVID | 10/20/2002
BLOOMINGTON, IL
RHONE, PATRICIA | 10/20/2002
MANDAN, ND
RICHARDS, JENNIFER | 10/20/2002
BALCH SPRINGS, TX
RIGSBEE, STEPHEN TRENT | 10/20/2002
RALEIGH, NC
RIVERA, MARCO ANTONIO | 10/20/2002
OMAHA, NE
RODEKAMP, RUTH ELAINE | 10/20/2002
STERLING, IL
ROSANE, LORI DILON | 10/20/2002
ALLIANCE, NE
ROSE, SUSAN ELIZABETH | 10/20/2002
LAWRENCE, KS
ROSEMOND, HELLEN DORIS | 10/20/2002
HOUSTON, TX
ROWE, JAMES K | 10/20/2002
NEBRASKA CITY, NE
RUSSELL-TAILLEFER, DEBORAH ANN | 10/20/2002
SPARKS, NV
SANDERS, EDWIN | 10/20/2002
VICKSBURG, MS
SAVAGE, SANDRA L | 10/20/2002
GOOSE CREEK, SC
SCHANCK, FRED J III | 10/20/2002
NEPTUNE, NJ
SCHNURER, CHARLES IRWIN | 10/20/2002
WHITE OAK, PA
SCOTT, GERALDINE L | 10/20/2002
NEWPORT NEWS, VA
SEFTON, BARBARA | 10/20/2002
HOLDERNESS, NH
SENINI, MARY ELIZABETH | 10/20/2002
DE MAR, CA
SESSOMS, MARK DESMOND | 10/20/2002
VALLEJO, CA
SHARP, ROBBIE | 10/20/2002
INDIANAPOLIS, IN
SHROPSHIRE, JAMES B | 10/20/2002
OMAHA, NE
SISSON, MISTY MAXSON | 10/20/2002
SHINGLEHOUSE, PA
SLUSZKA, KATHRYN J | 10/20/2002
SEAFORD, NY
SMITH, JIMMY D | 10/20/2002
AMARILLO, TX
SPERRY, KATHLEEN | 10/20/2002
JACKSONVILLE, FL
SPINETO, COLLEEN | 10/20/2002
BLOOMFIELD, NJ
SPRAGUE, ROSEMARY | 10/20/2002
NORTHFIELD, VT
STEELE, ROBYN | 10/20/2002
PRICE, UT
STEIN, HAZEL R CHILD | 10/20/2002
BURNET, TX
STERK, SAM | 10/20/2002
SCOTTSDALE, AZ
STEVENS, SEAN KARL | 10/20/2002
LIBERAL, KS
STILLMAN, VILETTA L | 10/20/2002
ATCHISON, KS
STRASSER, JENNIFER J | 10/20/2002
HOBOKEN, NJ
TAYLOR, JUDITH F | 10/20/2002
WEAVERVILLE, NC
TEEGARDEN, LISA | 10/20/2002
BATON ROUGE, LA
TEFFT, GREGORY H | 10/20/2002
LAGUNA HILLS, CA
THOMAS, PAUL R | 10/20/2002
KING OF PRUSSIA, PA
TROXELL, JEAN A | 10/20/2002
ATCHISON, KS
TRUMBULL, JENNIFER MARIE | 10/20/2002
ST PETERSBURG, FL
VALDISERRI, LAURIE A | 10/20/2002
BELLE VERNON, PA
VANHORN, CHERYL C HOWARD | 10/20/2002
LOUISA, KY
VRANESCU, AURELIA | 10/20/2002
HOLLYWOOD, FL
WALKER, BRETTA | 10/20/2002
BRUSLY, LA
WALLACE BALL, RACHEL LYNN | 10/20/2002
SAN ANGELO, TX
WALLENDA, WILLIAM L | 10/20/2002
CHICAGO, IL
WALP, BETH | 10/20/2002
ISLAND PARK, NY
WALZAK, BERNARD D | 10/20/2002
MORRISVILLE, VT
WEISER, ROBERT GERALD | 10/20/2002
SAN ANTONIO, TX
WEISS, JANET C | 10/20/2002
ANTIOCH, IL
WESHNAK, NADIA K | 10/20/2002
LAKEWOOD, NJ
WESLEY, JOSEPH W | 10/20/2002
WOODCLIFF LAKE, NJ
WHITE, GAIL LEE | 10/20/2002
STOCKTON, CA
WIGTON, CLETIS MAHONEY | 10/20/2002
BISMARCK, ND
WILSON, DONNA M | 10/20/2002
PORT JEFFERSON STA, NY
WINTERS, KENNETH B | 10/20/2002
LONG BEACH, CA
WISNER, LLOYD ARTHUR | 10/20/2002
TOPEKA, KS
WRIGHT, KIMBERLY ANN | 10/20/2002
SUMMIT, NJ
WRIGHT, TIMOTHY C | 10/20/2002
BRADENTON, FL
WRIGHT, JUDITH A | 10/20/2002
LYNDONVILLE, VT
ZAGALA, ROBERTO N | 10/20/2002
ARLINGTON HGTS, IL
FEDERAL/STATE EXCLUSION/SUSPENSION
ASSAD, HANY YOUSSEF | 10/20/2002
SAN RAMON, CA
BEHAR, NISSIN | 10/20/2002
SKOKIE, IL
CAL'S MEDICAL MANAGEMENT INC | 10/20/2002
OXFORD, WI
KRITCHEVSKAYA, MARINA YURI | 10/20/2002
STUDIO CITY, CA
PIERCE, LINDA ANN | 10/20/2002
VALLEY CENTER, KS
FRAUD/KICKBACKS
CARDIOTEL, INC | 06/20/2002
GAITHERSBURG, MD
FRALEY, ALAN R | 07/18/2002
COLUMBIA, SC
GERSHONI, DANIEL | 06/20/2002
FT LAUDERDALE, FL
MILLER, ROBERT B | 04/14/2000
PETERSBURG, VA
OWNED/CONTROLLED BY CONVICTED ENTITIES
A LOVING TOUCH | 10/20/2002
STONE MOUNTAIN, GA
ALOSTA FAMILY DENTAL | 10/20/2002
GLENDORA, CA
BALAU CARE, INC | 10/20/2002
MIAMI, FL
BRUCE B FIGOTEN, DC, PC | 10/20/2002
WOODLAND HILLS, CA
FARMACIA CAPARRA HEIGHTS, INC | 10/20/2002
PORT SAINT, FL
HOMETOWN HOMECARE | 10/20/2002
FOLEY, AL
LITTLE FIVE POINTS PHARMACY | 10/20/2002
ATLANTA, GA
MED PAY, INC | 10/20/2002
METAIRIE, LA
MEDICAL EMPORIUM CORP | 10/20/2002
MIAMI, FL
MEDICAL OUTLET, INC | 10/20/2002
LARGO, FL
NANY'S MEDICAL SUPPLY, INC | 10/20/2002
MIAMI, FL
NATIONAL PHARMACEUTICALS, INC | 10/20/2002
BOCA RATON, FL
OBATA CHIROPRACTIC CLINCI, P C | 09/11/2002
COLLEGE PARK, GA
PEDIAPLUS MEDICAL CENTER | 10/20/2002
MONROE, GA
S A L WHOLESALE, INC | 10/20/2002
BOCA RATON, FL
SOUTH FLORIDA ORTHOTICS | 10/20/2002
GARDNER, MA
SPA ACUPUNCTURE/ACUPRESSURE | 10/20/2002
INGLEWOOD, CA
VERO BEACH COMMUNITY CARE CTR | 10/20/2002
VERO BEACH, FL
FAILURE TO PROVIDE PAYMENT INFORMATION
BUEGEL, DALE M
SHOREWOOD, WI | 10/20/2002
DEFAULT ON HEAL LOAN
BERRY, SHELLIE J | 09/11/2002
DALLAS, TX
NEWSOME, RAYMOND E | 09/11/2002
DE SOTO, TX
OBATA, NWAEBUNI M | 09/11/2002
RIVERDALE, GA
ROBINSON, KENNETH E | 09/16/2002
AMERICUS, GA
TUEL, MARC A | 09/12/2002
FARMINGTON, CT

Dated: September 3, 2002.
Kathi Petrowski,
Acting Director, Health Care Administrative Sanctions, Office of Inspector General.

[FR Doc. 02-25936 Filed 10-10-02; 8:45 am]

BILLING CODE 4150-04-P